ENVIRONMENTAL PROTECTION AGENCY

[FRL-9720-7]

Proposed CERCLA Administrative Cost Recovery Settlement for the Buckbee-Mears Co. Superfund Site in Cortland, NY, Cortland County

AGENCY: Environmental Protection Agency (EPA).

ACTION: Notice; request for public comment.

SUMMARY: In accordance with Section 122 (h) of the Comprehensive Environmental Response, Compensation, and Liability Act of 1980, as amended (“CERCLA”), notice is hereby given of a proposed administrative settlement for recovery of past response costs concerning the Buckbee-Mears Co. Superfund Site located in Cortland, Cortland County, New York, (the “Site”) with the State Bank of India, New York Branch (the “Bank”). Pursuant to the settlement EPA will receive: (1) All funds in an escrow account with accrued interest (approximately $116,500); (2) Twenty-five percent of any funds the Bank collects from the principals of International Electron Devices (USA), LLC, the current owner and past operator of the Site at the time of disposal; and (3) A share of the proceeds from the sale of two parcels of land within the Site (“Properties”) following the Bank's foreclosure sale and distribution of certain amounts to the City of Cortland (“City”) and Cortland County (“County”) in settlement of their respective tax liens. The sales proceeds shall be distributed as follows: (a) The Bank will pay to the City the greater of $302,881 or 15% after the Bank is paid $150,000 attributable to the costs of marketing and selling the Properties; (b) The Bank will pay to the County $2,120; and (c) Any proceeds from the foreclosure sale remaining after the above payments will be distributed in proportion to the following lien amounts: (1) For EPA, $8,323.204; (2) for the Bank, $8,434,911; (3) for the City, $1,199,043 minus the greater of $302,881 or fifteen percent (15%) of the proceeds from the sale of the Properties. The settlement also includes a covenant not to sue the settling party pursuant to Sections 106 and 107(a) of CERCLA, for Existing Contamination, as defined in the settlement, at the Site. For thirty (30) days following the date of publication of this notice, the Agency will receive written comments relating to the settlement. The Agency will consider all comments received and may modify or withdraw its consent to the settlement if comments received disclose facts or considerations which indicate that the settlement is inappropriate, improper, or inadequate.

DATES: Comments must be provided within thirty days of the publication of this notice.

ADDRESSES: Comments should be addressed to the U.S. Environmental Protection Agency, Office of Regional Counsel, 290 Broadway, 17th Floor, New York, New York 10007-1866 and should refer to the Buckbee-Mears Co. Superfund Site located in Cortland, New York, Cortland County, EPA Region II Docket No. CERCLA-02-2012-2017.

FOR FURTHER INFORMATION CONTACT: U.S. Environmental Protection Agency, Office of Regional Counsel, 290 Broadway, 17th Floor, New York, New York 10007-1866, Attention: Marla E. Wieder, Assistant Regional Counsel at (212) 637-3184.

SUPPLEMENTARY INFORMATION: A copy of the proposed settlement may be obtained from Marla Wieder, Assistant Regional Counsel at the address above, or via email at wieder.marla@epa.gov.

Dated: July 20, 2012.
John LaPadula,
Deputy Director, Emergency & Remedial Response Division.

[FR Doc. 2012-23587 Filed 9-24-12; 8:45 am]

BILLING CODE 6560-50-P